DEPARTMENT OF ENERGY

Federal Energy Regulatory Commission

[Docket No. EC04-163-000, et al.]

LenderCo, et al.; Electric Rate and Corporate Filings

October 4, 2004.

The following filings have been made with the Commission. The filings are listed in ascending order within each docket classification.

1. LenderCo; Panda Gila River I, LLC, Panda Gila River II, LLC, Union Power I, LLC, Union Power II, LLC

[Docket No. EC04-163-000]

Take notice that on September 30, 2004, Panda Gila River I, LLC, Panda Gila River II, LLC, Union Power I, LLC, Union Power II, LLC (collectively, the TECO Applicants) and LenderCo (together with the TECO Applicants, Applicants) submitted an application pursuant to section 203 of the Federal Power Act for authorization of a disposition of jurisdictional facilities held indirectly by the TECO Applicants. Applicants state that the proposed disposition of jurisdictional facilities is directly related to the disposition of an approximately 2,200 MW natural gas-fired, combined cycle electric generating facility located in Union County, Arkansas and an approximately 2,200 MW natural gas-fired, combined cycle electric generating facility located in Gila Bend, Arizona.

Comment Date: 5 p.m. Eastern Time on October 21, 2004.

2. LSP-Kendall Energy, LLC, Granite II Holding, LLC, LSP Kendall Holding, LLC

[Docket No. EC04-164-000]

Take notice that on September 30, 2004, LSP-Kendall Energy, LLC (LSP-Kendall), Granite II Holding, LLC (Granite II) and LSP Kendall Holding LLC (Holding) filed with the Federal Energy Regulatory Commission an application pursuant to section 203 of the Federal Power Act for authorization for the disposition of jurisdictional facilities in connection with the sale by Granite II to Holding of all of the issued and outstanding membership interests in LSP-Kendall, which owns an approximately 1,160 MW combined cycle electric generation facility located in Kendall County, Illinois.

Comment Date: 5 p.m. Eastern Time on October 21, 2004.

3. Northern Iowa Windpower LLC

[Docket No. EG04-104-000]

On September 30, 2004, Northern Iowa Windpower LLC (Northern Iowa) filed with the Federal Energy Regulatory Commission an Application for Redetermination of Exempt Wholesale Generator Status pursuant to part 365 of the Commission's regulations.

Northern Iowa owns and operates a wind-powered eligible facility with a capacity of 80 megawatts, powered by eighty-nine wind turbine generators, which is located in Worth County, Iowa.

Comment Date: 5 p.m. Eastern Time on October 15, 2004.

4. Wisconsin Public Service Corporation; Wisconsin Public Service Corporation, WPS Power Development, Inc., WPS Energy Services, Inc.

[Docket Nos. ER95-1528-008 and ER96-1088-033]

Take notice that, on September 27, 2004, Wisconsin Public Service Corporation (WPSC), WPS Energy Services, Inc. and WPS Power Development, Inc. (and its subsidiaries) (collectively, the WPSR Companies), submitted a three-year update of the justification for their authorization to sell power at market-based rates.

WPSR Companies state that copies of this filing have been served on the Public Service Commissions of Wisconsin, Michigan and Maine.

Comment Date: 5 p.m. Eastern Time on October 18, 2004.

5. AmerGen Energy Company, LLC; Commonwealth Edison Company, Exelon Energy Company, Exelon Framingham, LLC, Exelon Generation Company, LLC, Exelon New Boston, LLC, Exelon New England Power Marketing, L.P., Exelon West Medway, LLC, Exelon Wyman, LLC, PECO Energy Company, Unicom Power Marketing, Inc.

[Docket Nos. ER99-754-009, ER98-1734-007, ER97-3954-017, ER01-513-006, ER00-3251-007, ER99-2404-005, ER01-513-006, ER01-513-007, ER01-513-008, ER99-1872-008, and ER01-1919-004]

Take notice that on September 27, 2004, Exelon Generation Company, LLC (Exelon) and its affiliates listed above (jointly Exelon), submitted for filing generation market power screens and other analyses performed for Exelon in compliance with the Commission's orders issued April 14, 2004 and July 8, 2004 107 FERC ¶ 61,018 (2004) and 61,026 (2004).

Comment Date: 5 p.m. Eastern Time on October 18, 2004.

6. Pinnacle West Capital Corporastion, Arizona Public Service Company, Pinnacle West Energy Corporation, APS Energy Service Company, Inc.

[Docket Nos. ER00-2268-006, ER99-4124-004, ER00-3312-005, and ER99-4122-007]

Take notice that on September 28, 2004, the Pinnacle West Capital Corporation (PWCC), the Arizona Public Service Company, the Pinnacle West Energy Corporation and APS Energy Services, Company, Inc. (collectively the Pinnacle West Companies), filed a supplement to its market update for authorization to sell at market-based rates and various tariff amendments filed on August 11, 2004, pursuant to the request of Commission staff.

Comment Date: 5 p.m. Eastern Time on October 15, 2004.

7. Pacific Gas and Electric Company

[Docket No. ER04-13-004]

Take notice that on September 29, 2004, Pacific Gas and Electric Company (PG&E) submitted a compliance filing pursuant to the Commission's order issued August 3, 2004 in Docket No. ER04-13-000 and 001.

PG&E states that copies of this filing have been served upon the parties of record in FERC Docket No. ER04-13-000 and ER04-13-001, Duke Energy Moss Landing, LLC, the California Independent System Operator Corporation, and the California Public Utilities Commission.

Comment Date: 5 p.m. Eastern Time on October 20, 2004.

8. Entergy Services, Inc.

[Docket No. ER04-699-000]

Entergy Services, Inc.

[Docket Nos. ER03-1272-002 and ER03-1272-003]

As announced in a Notice of Technical Conference, issued September 27, 2004, in the above referenced proceedings, a technical conference will be held on October 8, 2004, in Jackson, Mississippi. The conference will be held from 9:30 a.m. to 3:30 p.m. (Central Time) at the Mississippi Department of Education Building, 359 N. West Street, Jackson, Mississippi (parking for this meeting is available in the Robert E. Lee Building, directly across the street from the Department of Education Building, on the 7th and 8th floors of the garage). Members of the Federal Energy Regulatory Commission are expected to participate, along with Entergy Services, Inc's (Entergy) state and local utility regulators.

Following is a description of how the conference will be organized. To encourage dialog and discussion, the Commission is not expecting presentations or prepared remarks from market participants. Rather, the Commission intends this to be a working session.

The morning session will address Entergy's Weekly Procurement Process (WPP) proposal. Issues we would like to explore include: Transparency of information; refinement of the types of products to be offered through the WPP; the interplay of the WPP and the Available Flowgate Capability (AFC); the respective roles and responsibilities of the Independent Coordinator of Transmission (ICT), Entergy Management Organization (EMO), and Entergy Transmission in the WPP; to what extent do customers benefit from better economic dispatch; and any additional issues or concerns that participants wish to discuss related to the WPP.

We note that Entergy and the market participants have had two meetings in our offices intended as a follow-up to address certain questions and concerns expressed during the July 28 and 29, 2004 Technical Conference held in New Orleans. We will first provide Entergy and the market participants the opportunity to provide us with an update on any progress made to resolve issues.

The afternoon session will discuss the ICT proposal. Specifically, issues we would like to explore include: how could the ICT proposal be changed to be more independent; what additional roles or functionalities should the ICT assume; and what stakeholder processes, if any, would be appropriate for the ICT, in its formation and on-going operations.

Parties will have the opportunity to file supplemental comments following the conclusion of the conference.

The conference is open for the public to attend and preregistration is not required; however, attendees are asked to register for the conference on-line by close of business on Wednesday, October 6, at http://www.ferc.gov/whats-new/registration/entergy-1008-form.asp. Attendees may also register on-site.

Transcripts of the conference will be immediately available from Ace Reporting Company (202-347-3700 or 1-800-336-6646) for a fee. They will be available for the public on the Commission's e-Library seven calendar days after FERC receives the transcript.

For additional information, please contact Anna Cochrane at (202) 502-6357; anna.cochrane@ferc.gov, or Sarah McKinley at (202) 502-8004; sarah.mckinley@ferc.gov.

9. Xcel Energy Operating Companies, Northern States Power Company d/b/a Xcel Energy

[Docket No. ER04-1107-001]

Take notice that on September 29, 2004, Xcel Energy Services Inc. (XES) on behalf of Northern States Power Company d/b/a Xcel Energy (NSP) filed an amendment to its August 10, 2004 filing in Docket No. ER04-1107-000, a signed Contract for Interconnection, Load Control Boundary and Maintenance between NSP and the United States Department of Energy Western Area Power Administration (Pick-Sloan Missouri Basin Program, Eastern Division) (WAPA) dated July 12, 2004. XES proposes that the Interconnection Agreement be designated as Rate Schedule 446-NSP to the Xcel Energy Operating Companies FERC Electric Tariff, Original Volume No. 3. XES requests an effective date of August 10, 2004.

Comment Date: 5 p.m. Eastern Time on October 12, 2004.

10. PPL University Park, LLC

[Docket No. ER04-1111-002]

Take notice that on September 28, 2004, PPL University Park, LLC (PPL University Park) submitted a corrected revised sheet to its FERC Electric Tariff, Original Volume No. 1 to replace a sheet submitted with its August 11, 2004 filing, as amended on August 13, 2004, in Docket No. ER04-1111-000.

PPL University Park states that copies of the filing were served upon PJM Interconnection, L.L.C., New York Independent System Operator, Inc. and ISO New England Inc., and parties on the official service list in the above-captioned proceeding.

Comment Date: 5 p.m. Eastern Time on October 19, 2004.

11. Westar Energy, Inc.

[Docket No. ER04-1150-001]

Take notice that on September 28, 2004, Westar Energy, Inc. (Westar) submitted an amendment to its August 25, 2004 filing in Docket No. ER04-1150-000. Westar states that the amendment removes the request for the deletion of Westar's need to submit a revised Exhibit II when delivery points are added or changed.

Westar states that a copy of this filing was served upon the Kansas Corporation Commission, Kaw Valley Electric Cooperative, Nemaha-Marshall Electric Cooperative Association, Inc. and Doniphan Electric Cooperative.

Comment Date: 5 p.m. Eastern Time on October 19, 2004.

12. Styrka Energy Master Fund LLC

[Docket No. ER04-1251-000]

Take notice that on September 28, 2004, Styrka Energy Master Fund LLC (Applicant) tendered for filing an application for waivers and blanket approvals under various regulations of the Commission and for an order accepting Styrka Energy Master Fund LLC's FERC Electric Rate Schedule No. 1. Applicant states that it is seeking authority to make sales of electrical capacity, energy, ancillary services, and Firm Transmission Rights, Congestion Credits, Fixed Transmission Rights, and Auction Revenue Rights (collectively, FTRs), as well as reassignments of transmission capacity, to wholesale customers at market-based rates. Applicant requests and effective date of October 1, 2004.

Comment Date: 5 p.m. Eastern Time on October 19, 2004.

13. Midwest Independent Transmission System Operator, Inc., Ameren Services Company

[Docket No. ER04-1252-000]

Take notice that on September 28, 2004, Midwest Independent Transmission System Operator, Inc., (Midwest ISO) and Ameren Services Company (Ameren) (collectively, Applicants) filed with the Commission a Joint Application Under section 205 of the Federal Power Act for Approval of Transition to Formulae Rate. Applicants requests an effective date of October 1, 2004.

Comment Date: 5 p.m. Eastern Time on October 19, 2004.

14. Central Maine Power Company

[Docket No. ER04-1253-000]

Take notice that on September 29, 2004, Central Maine Power Company (CMP) submitted an Executed Continuing Site/Interconnection Agreement (CSIA) between CMP and FPL Energy Maine, Inc., which replaces an unexecuted CSIA filed with the Commission on March 19, 2004 in Docket No. ER04-425-000 and accepted for filing by the Commission on June 16, 2004. CMP states that this executed CSIA, which is intended to replace the unexecuted CSIA without changing any terms and conditions, is designated as FERC Electric Tariff, Fifth Revised, Volume No. 3, Third Revised Service Agreement No. 158, effective December 23, 2003.

Comment Date: 5 p.m. Eastern Time on October 20, 2004.

15. Public Service Company of New Mexico

[Docket No. ER04-1257-000]

Take notice that on September 30, 2004, Public Service Company of New Mexico (PNM) submitted for filing with the Commission pursuant to section 205 of the Federal Power Act, 16 U.S.C. 824d (2000), a First Revised Network Integration Transmission Service Agreement (NITSA) and First Revised Network Operating Agreement (NOA) between PNM and The Incorporated County of Los Alamos, New Mexico (LAC) under PNM's Open Access Transmission Tariff. PNM states that the NITSA and NOA have been modified to reflect current business arrangements between PNM and LAC, including updates to the billing credit mechanism under the NITSA. PNM requests an effective date of October 1, 2004.

PNM states that a copy of the filing was served upon LAC, and informational copies were served upon the New Mexico Public Regulation Commission and the New Mexico Attorney General.

Comment Date: 5 p.m. Eastern Time on October 21, 2004.

16. Public Service Company of New Mexico

[Docket No. ER04-1258-000]

Take notice that on September 30, 2004, Public Service Company of New Mexico (PNM) submitted for filing with the Commission pursuant to section 205 of the Federal Power Act, 16 U.S.C. 824d (2000), a Third Revised Network Integration Transmission Service Agreement (NITSA) and Third Revised Network Operating Agreement (NOA) between PNM and Tri-State Generation and Transmission Association, Inc. (Tri-State) under PNM's Open Access Transmission Tariff. PNM states that the NITSA and NOA have been updated to reflect revised levels of operating reserves to be provided by Tri-State, and to reflect current business arrangements between PNM and Tri-State. PNM requests an effective date of October 1, 2004.

PNM states that a copy of the filing was served upon Tri-State, and informational copies were served upon the New Mexico Public Regulation Commission and the New Mexico Attorney General.

Comment Date: 5 p.m. Eastern Time on October 21, 2004.

17. Pacific Gas and Electric Company

[Docket No. ER04-1259-000]

Take notice that on September 29, 2004, Pacific Gas and Electric Company (PG&E) tendered for filing the Large Facilities Authorization Letter No. 3, the Small Facilities Authorization Letter No. 7, and the Other Facilities Authorization Letter, submitted pursuant to the procedures for implementation (Procedures) of section 3.3 of the 1987 Agreement between PG&E and the City and County of San Francisco (City). PG&E states that this is PG&E's sixth quarterly filing submitted pursuant to section 4 of the Procedures, which provides for the quarterly filing of Facilities Authorization Letters.

PG&E states that copies of this filing have been served upon City, the California Independent System Operator Corporation, and the California Public Utilities Commission.

Comment Date: 5 p.m. Eastern Time on October 21, 2004.

18. Midwest Independent Transmission System Operator, Inc. and PJM Interconnection, L.L.C; Midwest Independent Transmission System Operator, Inc., et al.; Ameren Services Company, et al.; Midwest Independent Transmission System Operator, Inc., et al.

[Docket No. ER05-6-000, EL02-111-019, EL03-212-016, and EL04-135-000]

Take notice that on October 1, 2004, the Unified Plan Proponents, consisting of transmission owners, independent transmission companies, transmission-dependent utilities, municipal and cooperative entities, independent generators, power marketers, retail customers, consumer advocates, and state commissions, jointly submitted for filing, in the above-captioned dockets, a long-term transmission rate design proposal, for the combined Midwest Independent Transmission System Operator, Inc. (Midwest ISO) and PJM Interconnection, L.L.C. (PJM) region, and related Offer of Settlement, pursuant to section 205 of the Federal Power Act, 16 U.S.C. 824d, Rule 602 of the Commission's Rules of Practice and Procedure, 18 CFR 385.602, and the Going-Forward Principles and Procedures approved by the Commission by Order dated March 19, 2004, in Midwest Independent Transmission System Operator, Inc., et al., 106 FERC ¶ 61,262 (2004).

The Unified Plan Proponents propose to make their submittal effective as a single integrated package on December 1, 2004.

The Unified Plan Proponents also have requested waiver of the service requirements set forth in 18 CFR 385.2010. The Unified Plan Proponents have electronically served a copy of this filing, with attachments, upon the official LISTSERVE in Docket No. EL02-111-000, et al., and all Midwest ISO and PJM members and posted it on the websites of Midwest ISO and PJM.

Also take notice that on October 1, 2004, Allegheny Power, Ameren Services Corporation, American Electric Power Service Corporation, Exelon Corporation, Illinois Power Company and LG&E Energy, L.L.C., jointly submitted for filing, in Docket Nos. EL02-111-019, EL03-212-016 and EL04-135-000, a long-term transmission pricing proposal. They state that copies of this filing were served on parties on the official service list in Docket Nos. EL02-111-000 and EL03-212-000.

Comment Date: 5 p.m. Eastern Time on October 15, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-2596 Filed 10-12-04; 8:45 am]

BILLING CODE 6717-01-P